FEDERAL COMMUNICATIONS COMMISSION

[DA 99-2674]

Responsible Accounting Officer—Letter 28—Re: Auditor Independence and Objectivity

AGENCY: Federal Communications Commission.

ACTION: Notice; announcement of OMB approval.

SUMMARY: This document discusses the importance of independence and objectivity in the performance of audit work required by the Commission and adopts, as modified for Commission purposes, Standard No. 1 of the Independence Standards Board, which requires auditors to disclose and discuss potential independence problems.

DATES: Effective May 19, 2000.

FOR FURTHER INFORMATION CONTACT: Mark Stone, Accounting Safeguards Division, Common Carrier Bureau, (202) 418-0816.

SUPPLEMENTARY INFORMATION: On December 1, 1999 the Common Carrier Bureau, Accounting and Audits Division adopted and released a Responsible Accounting Officer (RAO) Letter 28, Re: Auditor Independence and Objectivity, a summary of which was published in the Federal Register. See 64 FR 71785 (December 22, 1999). In that document we address the independence implications for the new consulting and advocacy services provided by auditors. In that document the Commission establishes the following standard based on Independence Standards Board's Standard No. 1. For independent audits performed pursuant to part 32 and § 64.901 et seq. of the Commission's rules (including audits, attest examinations, agreed-upon procedures engagements, and any other engagement required by independent auditors), the auditor shall at least annually: (a) Disclose to the Accounting Safeguards Division (ASD) of the Common Carrier Bureau in writing all relationships between the auditor and its related entities and the carrier and its related entities that in the auditor's professional judgment may reasonably be thought to bear on independence; (b) confirm in writing to ASD that in its professional judgment it is independent of the carrier; and (c) discuss the auditor's independence with ASD.

We stated that “because items in the RAO letter pertain to the collection of information, Office of Management and Budget (OMB) approval of the proposed collection is required by the Paperwork Reduction Act of 1995. Under the Paperwork Reduction Act, members of the public are not required to respond to a collection of information sponsored by the Federal government, and the government may not conduct or sponsor a collection, unless the information collection contains a currently valid OMB control number. Accordingly, independent auditors will not be required to comply with this RAO until OMB has given such approval. ASD will notify the public when OMB has approved the proposed information collection.” The information collection was approved by OMB on May 19, 2000. See OMB No. 3060-0927. This publication satisfies our statement that the Commission would publish a document announcing OMB approval of proposed information collection.

Federal Communications Commission.
Kenneth P. Moran,
Chief, Accounting Safeguards Division, Common Carrier Bureau.

[FR Doc. 00-14609 Filed 6-8-00; 8:45 am]

BILLING CODE 6712-01-U